SMALL BUSINESS ADMINISTRATION

Data Collection Available for Public Comments and Recommendations

ACTION: Notice and request for comments.

SUMMARY: In accordance with the Paperwork Reduction Act of 1995, this notice announces the Small Business Administration's intentions to request approval on a new and/or currently approved information collection.

DATES: Submit comments on or before March 19, 2007.

ADDRESSES: Send all comments regarding whether these information collections are necessary for the proper performance of the function of the agency, whether the burden estimates are accurate, and if there are ways to minimize the estimated burden and enhance the quality of the collections, to Cynthia Pitts, Administrative Officer, Office of Disaster Assistance, Small Business Administration, 409 3rd Street SW., 6th Floor, Washington, DC 20416.

FOR FURTHER INFORMATION CONTACT: Cynthia Pitts, Administrative Officer, Office of Disaster Assistance 202-205-7570, cynthia.pitts#@sba.gov. Curtis B. Rich, Management Analyst, 202-205-7030, curtis.rich@sba.gov.

SUPPLEMENTARY INFORMATION: Title: “Disaster Business Loan Application”

Description of Respondents: Personnel that assist in the processing of loan applications and disbursement of loan funds to victims of Hurricanes Katrina, Rita and Wilma.

Form No: 5,1368.

Annual Responses: 12,742.

Annual Burden: 29,754.

Title: “Alternative Creditworthiness Assessment”

Description of Respondents: Personnel that assist in the processing of loan applications and disbursement of loan funds to victims of Hurricanes Katrina, Rita and Wilma.

Form No.: 2294.

Annual Responses: 1,849.

Annual Burden: 8.

ADDRESSES: Send all comments regarding whether this information collection is necessary for the proper performance of the function of the agency, whether the burden estimates are accurate, and if there are ways to minimize the estimated burden and enhance the quality of the collection, to Charles W. Thomas, Director, Office of Program Development, Small Business Administration, 409 3rd Street SW., 8th Floor, Washington, DC 20416.

FOR FURTHER INFORMATION CONTACT: Charles W. Thomas, Director, Office of Program Development, 202-205-6656, charles.thomas@sba.gov. Curtis B. Rich, Management Analyst, 202-205-7030, curtis.rich@sba.gov.

SUPPLEMENTARY INFORMATION: Title: “Microloan Program Electronic Reporting System (MPERS).”

Description of Respondents: Microloan Program Intermediary Lenders.

Form No: N/A.

Annual Responses: 2,500.

Annual Burden: 625.

Jacqueline White,
Chief, Administrative Information Branch.

[FR Doc. E7-489 Filed 1-16-07; 8:45 am]

BILLING CODE 8025-01-P